DEPARTMENT OF HEALTH AND HUMAN SERVICES

Centers for Disease Control and Prevention

[30DAY-29-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

1. Public Health Prevention Service Program—New—Epidemiology Program Office (EPO). In 1995, senior CDC leadership asked for a review of CDC's role in developing public health workers. As a result of the review, the Public Health Prevention Service (PHPS) program was established in 1997, to be carried out by the Epidemiology Program Office (EPO). The purpose of the PHPS program is to improve the nation's public health practice by preparing entry-level public health professionals to conduct prevention programs that improve health and prevent injury and to manage emerging public health problems.

Implicit in the creation of the program is the expectation that the PHPS participants would be a new breed of public health professional who would owe primary allegiance to prevention and public health as disciplines rather than to specific programs, be comfortable working across a variety of programs and in multiple levels of jurisdictions, and be knowledgeable about and prepared to meet future challenges in public health in planning, implementing, managing, and evaluating scientifically sound prevention programs and interventions.

PHPS participants (Prevention Specialists) are selected annually in a national competition. Each year, approximately 25 PHPS participants are chosen from a pool of about 100 applicants. During their 3-year participation they undertake formal training, engage in a series of rotations throughout CDC and, finally, are posted to 2-year assignments with health departments at the state, county, or local level. Throughout the off-site portion of the program, they are intended to participate in scheduled training through periodic on-site sessions at CDC as well as through distance learning. At the conclusion of the three years, they are available for employment in any setting.

Data are needed to determine if the PHPS program is meeting its goals, including: (1) Broad exposure to multiple disciplines and levels of government, (2) exposure to important management and leadership skills, and (3) contribution to the creation of a pool of qualified leaders who will remain in and rise rapidly to leadership in public health at Federal, state, and local levels. In addition, data are needed to monitor the implementation of the program and allow for continuous improvement of processes.

While surveys and focus groups are being conducted with the PHPS participants and their CDC supervisors throughout the course of their 3-year participation, these data need to be supplemented with information from others including: (1) Graduates of the PHPS program: to determine if they are assuming leadership roles in public health and the aspects of the PHPS program that proved most helpful, (2) local health department staff who supervise PHPS participants during their field assignments: to determine if the PHPS participants are exhibiting the level of skills imparted during their training period and are adding value to state and local public health efforts, and (3) those who are offered PHPS positions but choose not to participate: to determine how to make the program more attractive and to enable the program to improve marketing, application, and selection processes.

Results from this research will be used to help CDC identify ways in which the PHPS program can be enhanced and its processes improved. More importantly, it will allow CDC to assess whether the PHPS program is an effective mechanism for creating a pool of broadly-trained public health leaders.

The PHPS program will track participants, graduates, and their supervisors and employers for a period of 10 years. This request covers the first three years only. The total burden hours averages approximately 55 hours per year.

Respondents | No. of respondents | Responses/ respondent | Avg. burden/ response (in hrs.)
Year 1
Candidates:
Inquiring but not applying | 60 | 1 | .25
Offered, but declining interviews | 10 | 1 | .25
Interviewed but not offered PHPS slots | 30 | 1 | .25
Offered PHPS slots but not accepting | 10 | 1 | .25
Supervisors:
Of agencies requesting but not receiving a PHPS assignee | 30 | 1 | .1667
Of field assignments | 50 | 1 | .25
Of post-PHPS permanent employment \(1)\ | 0 | 1 | .1667
PHPS participants:
Graduating from the program \(1)\ | 0 | 1. | .25
Year 2
Candidates:
Inquiring but not applying | 60 | 1 | .25
Offered, but declining interviews | 10 | 1 | .25
Interviewed but not offered PHPS slots | 30 | 1 | .25
Offered but declining PHPS participation | 10 | 1 | .25
Supervisors:
Of agencies requesting but not receiving a PHPS assignee | 30 | 1 | .1667
Of field assignments | 50 | 1 | .25
For post PHPS permanent employment \(1)\ | 25 | 1 | .1667
PHPS participants:
Graduating from the program \(1)\ | 25 | 1 | .25
Year 3
Candidates:
Inquiring but not applying | 60 | 1 | .25
Offered, but declined interviews | 10 | 1 | .25
Interviewed but not offered PHPS |  |  |
Slots | 30 | 1 | .25
Offered PHPS slots but not accepting | 10 | 1 | .25
Supervisors:
Of agencies requesting but not receiving a PHPS assignee | 30 | 1 | .1667
Of field assignments | 50 | 1 | .25
Of post-PHPS permanent employment \(1)\ | 50 | 1 | .1667
PHPS participants:
Graduating from the program \(1)\ | 50 | 1 | .25
⁽¹⁾ PHPS is a three year program enrolling 25 new participants each year. First class will graduate in Year 2 of this data collection; 25 new graduates will be added to the pool of graduates each year thereafter.

Dated: May 1, 2000.
Nancy Cheal,
Acting Associate Director for Policy, Planning, and Evaluation, Centers for Disease Control and Prevention (CDC).

[FR Doc. 00-11232 Filed 5-4-00; 8:45 am]

BILLING CODE 4163-18-P